DEPARTMENT OF TRANSPORTATION

Federal Aviation Administration

14 CFR Parts 91 and 135

[Docket No. FAA-2010-0982; Amdt. No(s). 91-330A, 135-129A]

RIN 2120-AJ53

Helicopter Air Ambulance, Commercial Helicopter, and Part 91 Helicopter Operations; Correction

AGENCY: Federal Aviation Administration (FAA), DOT.

ACTION: Final rule; Correction.

SUMMARY: The FAA is correcting a final rule published on February 21, 2014. In that rule, the FAA amended its regulations to revise the helicopter air ambulance, commercial helicopter, and general aviation helicopter operating requirements. This document corrects errors in the codified text of that document.

DATES: Effective April 22, 2015.

FOR FURTHER INFORMATION CONTACT: For technical questions concerning this action, contact Andrew C. Pierce, Air Transportation Division, 135 Air Carrier Operations Branch, AFS-250, Federal Aviation Administration, 800 Independence Avenue SW., Washington, DC 20591; telephone 202-267-8238; email andy.pierce@faa.gov.

For legal questions concerning this action, contact Nancy Sanchez, Attorney, AGC-220, Federal Aviation Administration, 800 Independence Avenue SW., Washington, DC 20591; telephone 202-267-3073; email nancy.sanchez@faa.gov.

SUPPLEMENTARY INFORMATION:

Background

On February 21, 2014, the FAA published a final rule entitled, “Helicopter Air Ambulance, Commercial Helicopter, and part 91 Helicopter Operations” (79 FR 9932) (effective date delayed on April 21, 2014, at 79 FR 22012). In that final rule, the FAA addressed helicopter air ambulance operations and all commercial helicopter operations conducted under part 135. The FAA also established new weather minimums for helicopters operating under part 91 in Class G airspace.

The FAA is correcting § 91.155 and removing duplicative flight visibility requirements for part 91 helicopter operations in Class G airspace. Also, the FAA is correcting the regulatory text in § 135.609 to delineate visual flight rule operations and instrument flight rules operations. Finally, the agency is correcting the regulatory text in § 135.621(b) and clarifying the intended list of topics that must be included in the certificate holder's FAA-approved medical personnel training program.

Corrections

In FR Doc. 35, beginning on page 9932, in the Federal Register of February 21, 2014, make the following corrections:

Corrections to Regulatory Text

1. On page 9973, in § 91.155, revise the entry “For helicopters: Day” in the table in paragraph (a) to read as follows:

§ 91.155 Basic VFR weather minimums.

(a) * * *

Airspace | Flight visibility | Distance from clouds
* * * * * * *
Class G
* * * * * * *
For helicopters:
Day | ½ statute mile | Clear of clouds
* * * * * * *

* * * * *

2. On page 9975, in the third column, in § 135.609, revise paragraph (a) introductory text to read as follows:

§ 135.609 VFR ceiling and visibility requirements for Class G airspace.

(a) Unless otherwise specified in the certificate holder's operations specifications, when conducting VFR helicopter air ambulance operations in Class G airspace, the weather minimums in the following table apply:

* * * * *

3. On page 9978, in the third column, in § 135.621, revise paragraph (b) to read as follows:

§ 135.621 Briefing of medical personnel.

* * * * *

(b) The briefing required in paragraphs (a)(2) through (9) of this section may be omitted if all medical personnel on board have satisfactorily completed the certificate holder's FAA-approved medical personnel training program within the preceding 24 calendar months. Each training program must include a minimum of 4 hours of ground training, and 4 hours of training in and around an air ambulance helicopter, on the topics set forth in paragraph (a)(2) through (9) of this section.

* * * * *

Issued under authority of 49 U.S.C. 106(f), 44701(a), and 44730 in Washington, DC, on July 9, 2014.
Brenda D. Courtney,
Acting Director, Office of Rulemaking.

[FR Doc. 2014-16523 Filed 7-14-14; 8:45 am]

BILLING CODE 4910-13-P